DEPARTMENT OF THE TREASURY

Departmental Offices; Privacy Act of 1974, As Amended; System of Records

AGENCY: Departmental Offices, Treasury.

ACTION: Notice of Proposed Privacy Act System of Records.

SUMMARY: The Department is consolidating systems of records pertaining to the parking and carpool programs into one Treasury-wide system of records entitled “Treasury/DO .204—Parking and Carpool Program Records.”

DATES: Comments must be received no later than January 16, 2001. The proposed system of records will be effective January 23, 2001, unless the Department receives comments that would result in a contrary determination.

ADDRESSES: Comments should be sent to Disclosure Services, Department of the Treasury, 1500 Pennsylvania Ave., NW., Washington, DC, 20220.

FOR FURTHER INFORMATION CONTACT: Les Smith, Program Manager, Facilities Management Division, (202) 622-0989, fax (202) 622-5334.

SUPPLEMENTARY INFORMATION: The Department is consolidating systems of records pertaining to the parking and carpool programs into one Treasury-wide system of records. Department of the Treasury system of records notices were last published in their entirety beginning at 63 FR 69716 on December 17, 1998. In the proposed notice each Treasury bureau is listed as a “System Location” and the official responsible for the program at each bureau is identified under “System Manager.”

In certain instances, employer-provided parking may constitute a taxable fringe benefit subject to 26 U.S.C. 132(f), and the system will contain information necessary to report the taxable income, withhold the necessary income and employment taxes, and report the amount on an employee's W-2 and Leave and Earnings Statement. In addition, the Department may collect medical information from a person seeking a handicapped parking permit and if needed, disclose the medical information to a physician for determining the individual's eligibility for a handicap permit.

The following system of records notices will be deleted on January 23, 2001:

Treasury/CS .172—Parking Permits File

Treasury/BEP .043—Parking Program Records

Treasury/IRS 34.005—Parking Space Application and Assignment

Treasury/OTS .007—Employee Parking.

The new system of records report, as required by 5 U.S.C. 552a(r) of the Privacy Act, has been submitted to the Committee on Government Reform and Oversight of the House of Representatives, the Committee on Governmental Affairs of the Senate, and the Office of Management and Budget, pursuant to Appendix I to OMB Circular A-130, Federal Agency Responsibilities for Maintaining Records About Individuals, dated February 8, 1996.

This system of records, “Treasury/DO .204—Parking and Carpool Program Records” is published in its entirety below.

Dated: December 7, 2000.
W. Earl Wright, Jr.,
Chief Management and Administrative Programs Officer.

Treasury/DO .204

System name:

Parking and Carpool Program Records—Treasury/DO.

System location:

Department of the Treasury, 1500 Pennsylvania Avenue, NW., Washington, DC 20220. The locations at which the system is maintained by Treasury bureaus and their associated field offices are:

1. a. Departmental Offices (DO): 1500 Pennsylvania Ave., NW, Washington, DC 20220.

b. The Office of Inspector General (OIG): 740 15th Street, NW, Washington, DC 20220.

c. Treasury Inspector General for Tax Administration (TIGTA): 1111 Constitution Ave., NW, Washington, DC 20224.

2. Bureau of Alcohol, Tobacco and Firearms (ATF): 650 Massachusetts Avenue, NW, Washington, DC 20226.

3. Office of the Comptroller of the Currency (OCC): 250 E Street, SW, Washington, DC 20219-0001.

4. United States Customs Service (CS): 1300 Pennsylvania Avenue, NW, Washington, DC 20229.

5. Bureau of Engraving and Printing (BEP): 14th & C Streets, SW, Washington, DC 20228.

6. Federal Law Enforcement Training Center (FLETC): Glynco, Ga. 31524.

7. Financial Management Service (FMS): 401 14th Street, SW, Washington, DC 20227.

8. Internal Revenue Service (IRS): 1111 Constitution Avenue, NW, Washington, DC 20224.

9. United States Mint (MINT): Judiciary Square Building, 633-3rd Street, NW, Washington, DC 20220.

10. Bureau of the Public Debt (BPD): 200 Third Street, Parkersburg, WV 26101.

11. United States Secret Service (USSS): 950 H Street, NW, Washington, DC 20001.

12. Office of Thrift Supervision (OTS): 1700 G Street, NW, Washington, DC 20552.

Categories of individuals covered by the system:

Current employees of the Department and individuals from other Government agencies or private sector organizations who may use, or apply to use, parking facilities or spaces controlled by the Department. Individuals utilizing handicapped or temporary guest parking controlled by the Department.

Categories of records in the system:

Records may include the name, position title, manager's name, organization, vehicle identification, arrival and departure time, home addresses, office telephone numbers, social security numbers, badge number, and service computation date or length of service with a component of an individual or principal carpool applicant. Contains name, place of employment, duty telephone, vehicle license number and service computation date of applicants, individuals or carpool members. For parking spaces, permit number, priority group (handicapped, job requirements/executive officials (SES) or carpool/vanpool). Medical information may also be included when necessary to determine disability of applicant when applying for handicapped parking spaces.

Authority for maintenance of the system:

5 U.S.C. 301; 44 U.S.C. 3101; Treasury Department Order No. 165, revised as amended. Federal Property and Administrative Services Act of 1949, as amended.

Purpose(s):

The records are used to administer parking, carpool and vanpool programs within the Department. The system enables the Department to allocate and check parking spaces assigned to government or privately-owned vehicles operated by visitors, handicapped personnel, key personnel, employees eligible to participate in a parking program and carpools or vanpools. The Department is also able to compare these records with other Federal agencies to ensure parking privileges or other employee transportation benefits are not abused.

Routine uses of records maintained in the system, including categories of users and the purposes of such uses:

These records may be used to disclose information to:

(1) Appropriate Federal, State, local, or foreign agencies, or other public authority responsible for investigating or prosecuting the violations of or for enforcing or implementing a statute, rule, regulation, order, or license, where the disclosing agency becomes aware of an indication of a violation or potential violation of civil or criminal law or regulation;

(2) A Congressional office in response to an inquiry made at the request of the individual to whom the record pertains;

(3) A physician for making a determination on a person's eligibility for handicapped parking;

(4) A contractor who needs to have access to this system of records to perform an assigned activity;

(5) Parking coordinators of Government agencies and private sector organizations for verification of employment and participation of pool members;

(6) Unions recognized as exclusive bargaining representatives under the Civil Service Reform Act of 1978, 5 U.S.C. 7111 and 7114;

(7) Department of Justice when seeking legal advice, or when (a) the Department of the Treasury (agency) or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation;

(8) Third parties when mandated or authorized by statute or when necessary to obtain information that is relevant to an inquiry concerned with the possible abuse of parking privileges or other employee transportation benefits;

(9) A court, magistrate, or administrative tribunal in the course of presenting evidence, including disclosures to opposing counsel or witnesses in the course of civil discovery, litigation, or settlement negotiations or in connection with criminal law proceedings or in response to a subpoena where relevant or potentially relevant to a proceeding, and

(10) Officials of the Merit Systems Protection Board, the Federal Labor Relations Authority, the Equal Employment Opportunity Commission or the Office of Personnel Management when requested in the performance of their authorized duties.

Policies and practices for storing, retrieving, accessing, retaining, and disposing of records in the system:

Storage:

Hard copy and/or electronic media.

Retrievability:

Name, address, social security number, badge number, permit number, vehicle tag number, and agency name or organization code on either the applicant or pool members as needed by a bureau. Records are filed alphabetically by location.

Safeguards:

Paper records are maintained in locked file cabinets. Access is limited to personnel whose official duties require such access and who have a need to know the information in a record for a job-related purpose. Access to computerized records is limited, through use of a password, to those whose official duties require access. Protection and control of sensitive but unclassified (SBU) records are in accordance with TD P 71-10, Department of the Treasury Security Manual, and any supplemental guidance issued by individual bureaus. The IRS access controls will not be less than those provided by the Automated Information System Security Handbook, IRM 2(10)00, and the Manager's Security Handbook, IRM 1(16)12.

Retention and disposal:

Generally, record maintenance and disposal is in accordance with NARA General Retention Schedule 11, and any supplemental guidance issued by individual components. Disposal of manual records is by shredding or burning; electronic data is erased. Destroyed upon change in, or revocation of, parking assignment.

For the IRS, records are maintained in accordance with Records Control Schedule 301—General Records Schedule 11, Space and Maintenance Records, Item 4(a), IRM 1(15)59.31.

System manager(s) and address:

The system managers for the Treasury components are:

(1)(a) DO: Assistant Director, Parking, Safety and Farecard Office, Facilities Management Division, 1500 Pennsylvania Ave., NW, Washington, DC 20220.

(b) OIG: Director, Administrative Services Division, Office of Management Services, Room 510, 740 15th Street, NW., Washington, DC 20220.

(c) TIGTA: Security Officer, 1111 Constitution Ave., NW, Washington, DC 20224.

(2) ATF: Chief, Safety Program Branch, Administrative Programs Division, Office of Management, 650 Massachusetts Ave., NW, Washington, DC 20226.

(3) OCC: Building Manager, Building Services, Office of the Comptroller of the Currency, 250 E Street, SW, Washington, DC 20219.

(4) CS: Chief Financial Officer, U.S. Customs Service Headquarters, 1300 Pennsylvania Avenue, NW., Washington, DC 20229.

(5) BEP: Chief, Office of Administrative Services, Bureau of Engraving and Printing, 14th and C Streets, SW, Washington, DC 20228.

(6) FLETC: Associate Director for Planning & Resources, Federal Law Enforcement Training Center, Glynco, GA 31524.

(7) FMS: Director, Administrative Programs Division, 401 14th Street, SW, Washington, D.C. 20227.

(8) IRS: Chief, Security and Safety Branch; Regional Commissioners, District Directors, Internal Revenue Service Center Directors, and Computing Center Directors. (See IRS Appendix A for addresses.)

(9) MINT: Office of Management Services, 801 9th St. NW, Washington, DC 20220.

(10) BPD: Director, Washington Support Services, Bureau of the Public Debt, 999 E Street, NW, Washington, DC 20239.

(11) USSS: Assistant Director, Office of Administration, 950 H Street, NW, Washington, DC 20373-5802.

(12) OTS: Director, Procurement and Administrative Services, Office of Thrift Supervision, 1700 G Street, NW., Washington, DC 20552.

Notification Procedure:

Individuals seeking notification and access to any record contained in the system of records, or seeking to contest its content, may inquire in accordance with instructions pertaining to individual Treasury components appearing at 31 CFR part 1, subpart C, appendices A-L.

Record Access Procedures:

See “Notification procedure” above.

Contesting Record Procedures:

See “Notification procedure” above.

Record source categories:

Parking permit applicants, members of carpools or vanpools, other Federal agencies, medical doctor if disability determination is requested.

Exemptions claimed for the system:

None.

[FR Doc. 00-31793 Filed 12-13-00; 8:45 am]

BILLING CODE 4810-25-P